INTERNATIONAL TRADE COMMISSION

[Investigation No. 337-TA-957]

Certain Touchscreen Controllers and Products Containing the Same: Termination of an Investigation on the Basis of Settlement

AGENCY: U.S. International Trade Commission.

ACTION: Notice.

SUMMARY: Notice is hereby given that the U.S. International Trade Commission has determined not to review the presiding administrative law judge's (“ALJ”) initial determination (“ID”) (Order No. 29), which terminated the investigation based upon settlement.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission TDD terminal on (202) 205-1810.

SUPPLEMENTARY INFORMATION: The Commission instituted this investigation on May 26, 2015, based on a complaint filed by Synaptics Incorporated of San Jose, California (“Synaptics”). 80 FR 30093 (May 26, 2015). The complaint alleged violations of section 337 of the Tariff Act of 1930, as amended (19 U.S.C. 1337), in the importation into the United States, the sale for importation, or the sale within the United States after importation of certain touchscreen controllers and products containing the same by reason of infringement of certain claims of U.S. Patent Nos. 7,868,874 (“the '874 patent”); 8,338,724 (“the '724 patent); 8,558,811 (“the '811 patent”); and 8,952,916 (“the '916 patent”). The notice of investigation named as respondents Shenzhen Hiuding Technology Co., Ltd. a/k/a Shenzhen Goodix Technology Co. Ltd., of Shenzhen, China; and Goodix Technology Inc. of San Diego, California (collectively, “Goodix”); as well as BLU Products, Inc. of Doral, Florida (“BLU”). The Office of Unfair Import Investigations was also named as a party.

On March 29, 2016, Synaptics, Goodix, and BLU filed a joint motion to terminate the investigation based upon a settlement agreement between Synaptics and Goodix. On April 7, 2016, the Commission investigative attorney filed a response in support of the motion, agreeing with the movants that the settlement agreement resolves the entire dispute between Synaptics and all respondents.

On April 12, 2016, the ALJ granted the motion as an ID (Order No. 29), and terminated the investigation. The ALJ found that the motion complies with Commission Rules, see 19 CFR 210.21, and that it is in the public interest that the investigation be terminated, see id. § 210.50(b)(2). ID at 3-4.

No petitions for review of the ID were filed. The Commission has determined not to review the ID.

The authority for the Commission's determination is contained in section 337 of the Tariff Act of 1930, as amended (19 U.S.C. 1337), and in part 210 of the Commission's Rules of Practice and Procedure (19 CFR part 210).

By order of the Commission.
Dated: May 2, 2016.
Lisa R. Barton,
Secretary to the Commission.

[FR Doc. 2016-10580 Filed 5-5-16; 8:45 am]

BILLING CODE P